DEPARTMENT OF THE INTERIOR

National Park Service

[NPS-WASO-NAGPRA-17617; PPWOCRADN0-PCU00RP14.R50000]

Notice of Inventory Completion: U.S. Department of Agriculture, Forest Service, Kaibab National Forest, Williams, AZ

AGENCY: National Park Service, Interior.

ACTION: Notice.

SUMMARY: The U.S. Department of Agriculture (USDA), Forest Service, Kaibab National Forest has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Kaibab National Forest. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Kaibab National Forest at the address in this notice by April 15, 2015.

ADDRESSES: Michael R. Williams, Forest Supervisor, Kaibab National Forest, 800 S 6th St, Williams, AZ 86046, telephone (928) 635-8200, email mrwilliams01@fs.fed.us.

SUPPLEMENTARY INFORMATION: Notice is here given in accordance with the Native American Graves Protection and Repatriation Act (NAGPRA), 25 U.S.C. 3003, of the completion of an inventory of human remains and associated funerary objects under the control of the USDA Forest Service, Kaibab National Forest. The human remains and associated funerary objects were removed from the North Kaibab Ranger District, Coconino County, AZ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Kaibab National Forest professional staff in consultation with representatives of the Hopi Tribe of Arizona; Kaibab Band of Paiute Indians of the Kaibab Indian Reservation, Arizona; Navajo Nation, Arizona New Mexico & Utah; San Juan Southern Paiute Tribe of Arizona; and Zuni Tribe of the Zuni Reservation, New Mexico.

History and Description of the Remains

On August 24, 1985, human remains representing, at minimum, one individual were removed from the North Kaibab Ranger District in Coconino County, AZ. On August 23, 1985, the Coconino County Sherriff's Office was contacted in regards to human skeletal remains that were discovered by a hunter on the North Kaibab Ranger District. On August 24, 1985, the Coconino County Sherriff's Office conducted an investigation in the area and collected the human remains. On August 26, 1985, an anthropologist examined the remains and concluded that the skeleton was that of a female around 50-55 years of age at death and approximately 5'0” to 5'2” in stature. The examiner further concluded that the remains are possibly from a Hispanic individual, but are more likely from a Native American person. The examination surmised that the individual may have died of exposure in the 1930s or earlier based on the condition of the remains. On November 14, 1985, the Coconino County Sherriff's Office closed the case and turned the remains over to Northern Arizona University. Later, the remains were moved to the Coconino County Coroner's Office in Flagstaff, AZ. In 2012, the Coconino County Coroner's Office notified the Kaibab National Forest of the remains. The five associated funerary objects are two metal belt buckles, two steel rings, and one lot of fragments of a leather horse halter with brass rivets.

Sherriff's Office detectives and the medical examiner dated the remains to the 1930s or earlier. Interviews conducted during the investigation indicated the remains may be affiliated with the Paiute people. The area where the remains were located is within the traditional use area of the Kaibab Band of Paiute Indians of the Kaibab Indian Reservation, Arizona.

Determinations Made by the USDA Forest Service, Kaibab National Forest

Officials of the USDA Forest Service, Kaibab National Forest have determined that:

• Pursuant to 25 U.S.C. 3001(9), the human remains described in this notice represent the physical remains of one individual of Native American ancestry.

• Pursuant to 25 U.S.C. 3001(3)(A), the five objects described in this notice are reasonably believed to have been placed with or near individual human remains at the time of death or later as part of the death rite or ceremony.

• Pursuant to 25 U.S.C. 3001(2), there is a relationship of shared group identity that can be reasonably traced between the Native American human remains and associated funerary objects and the Kaibab Band of Paiute Indians of the Kaibab Indian Reservation, Arizona.

Additional Requestors and Disposition

Lineal descendants or representatives of any Indian tribe or Native Hawaiian organization not identified in this notice that wish to request transfer of control of these human remains and associated funerary objects should submit a written request with information in support of the request to Michael R Williams, Forest Supervisor, Kaibab National Forest, 800 S 6th St, Williams, AZ 86046, telephone (928) 635-8200, email mrwilliams01@fs.fed.us by April 15, 2015. After that date, if no additional requestors have come forward, transfer of control of the human remains and associated funerary objects to the Kaibab Band of Paiute Indians of the Kaibab Indian Reservation, Arizona, may proceed.

The Kaibab National Forest is responsible for notifying the Hopi Tribe of Arizona; Kaibab Band of Paiute Indians of the Kaibab Indian Reservation, Arizona; Navajo Nation, Arizona, New Mexico & Utah; San Juan Southern Paiute Tribe of Arizona; and Zuni Tribe of the Zuni Reservation, New Mexico, that this notice has been published.

Dated: February 3, 2015.
Melanie O'Brien,
Acting Manager, National NAGPRA Program.

[FR Doc. 2015-05995 Filed 3-13-15; 8:45 am]

BILLING CODE 4312-50-P